DEPARTMENT OF VETERANS AFFAIRS

Advisory Committee on Women Veterans, Notice of Meeting

The Department of Veterans Affairs gives notice under Public Law 92-463 that a meeting of the Advisory Committee on Women Veterans will be held on March 21-23, 2000, at the Department of Veterans Affairs, 810 Vermont Avenue, NW, Washington, DC. All meetings will be held in conference room 230.

The purpose of the Committee is to advise the Secretary of Veterans Affairs regarding the needs of women veterans with respect to health care, rehabilitation, compensation, outreach, and other programs and activities administered by the Department of Veterans Affairs designed to meet such needs. The Committee will make recommendations to the Secretary regarding such activities.

All sessions will be open to the public. Those who plan to attend should contact Ms. Maryanne Carson, Department of Veterans Affairs, Center for Women Veterans, 810 Vermont Avenue, NW, Washington, DC 20420, at (202) 273-6193. A tentative agenda follows:

Tuesday, March 21

8 a.m.

Welcome and Opening Remarks

New Member Orientation

Dr. Linda Schwartz, Chair

8:30 a.m.

The Honorable Togo D. West, Jr.

Secretary of Veterans Affairs

Presentation of Appointment Certificates

9 a.m.

Review: October 1999 Minutes

Chair's Update

Dr. Linda Schwartz

9:30 a.m.

Ethics Briefing

Mr. Jeffrey Green, Office of the General Counsel

10:30 a.m.

Break

11 a.m.

Briefing: Veterans Benefits Administration

Ms. Nora Egan, Deputy Under Secretary

Mr. Robert Epley, Director, Compensation and Pension Service

12 p.m.

Lunch

1:30 p.m.

Briefing: Veterans Health Administration

Ms. Carole Turner, Director, Women Veterans' Health Programs

2:30 p.m.

Briefing: VA Homeless Initiative for Women Veterans

Ms. Joan Furey, Director, Center for Women Veterans

3:15 p.m.

Break

3:45 p.m.

General Discussion: Summit 2000

Joan A. Furey, Director, Center for Women Veterans

5 p.m.

Adjourn

Wednesday, March 22

8:30 a.m.

Briefing: Native American Issues

Ms. Connie Evans

9:30 a.m.

Site Visit Reports: Dr. Linda Schwartz, Chair

Tampa/Bay Pines: Doug Russell

Fayetteville: Doug Russell

Washington, DC: Joy Ilem, Karen Ray, Lory Manning

Houston: Bertha Cruz, Lois Johns

Wichita: Sherry Blede

Leavenworth: Sherry Blede

11 a.m.

Break

11:15 a.m.

Video—Female Anatomy: Diseases of the Breast

VBN Satellite Broadcast

12 p.m.

Lunch

1:30 p.m.

General Discussion: 2000 Committee Report

Letter to Secretary: delay because of Summit

Committee Assignments

Linda Schwartz, Chairperson

2 p.m.

Subcommittee Meetings

3:30 p.m.

Break

4 p.m.

Full Committee—Subcommittee Reports

5 p.m.

Adjourn

Thursday, March 23

9 a.m.

General Discussion 2000 Report

10 a.m.

General Discussion

New Business

Next Meeting (after Summit)

11:30 a.m.

Break

1 p.m.

Adjourn

Dated: March 13, 2000.
By direction of the Secretary.
Marvin R. Eason,
Committee Management Officer.

[FR Doc. 00-6643 Filed 3-16-00; 8:45 am]

BILLING CODE 8320-01-M